Proclamation 10663 of October 31, 2023

National Diabetes Month, 2023

By the President of the United States of America

A Proclamation

One in ten Americans has diabetes, and of that group, one in five of them do not know that they do. While this chronic condition is becoming more common, there is so much that we can do to help prevent and manage it. During National Diabetes Month, we recommit as a Nation to making treatment more affordable, improving care, and finally finding a cure.

Every day, millions of Americans with diabetes struggle to afford life-saving insulin. It costs drug companies just $10 a vial to produce, but some charge more than 30 times that amount. Americans across the country have told me how those high prices sometimes force them to ration their medication, too often resulting in dangerous health complications that could have been avoided. Too many of them know what it is like to lay awake at night, staring at the ceiling, wondering how to choose between putting food on the table and buying the insulin they need to stay alive. It is wrong.

I ran for President to rebuild the middle class—and that includes working to make health care a right in this country, not a privilege. For decades, big pharmaceutical companies have blocked efforts to lower prescription drug costs, but together, we took them on and won. Last year, I signed the Inflation Reduction Act, one of the most significant laws ever passed to reduce prescription drug prices, capping insulin at $35 per month for seniors on Medicare, down from as much as $400 per month. The Inflation Reduction Act finally gave Medicare the ability to negotiate for lower drug prices, starting this year with ten drugs—including treatments for diabetes—benefiting more than nine million Americans. The law also requires drug companies that raise prices faster than inflation to pay the difference back to the Government, saving seniors up to $618 per dose of medication. Seniors and other Part D enrollees with high drug spending will have their out-of-pocket drug costs capped at about $3,500 next year. In 2025, the Inflation Reduction Act will cap total out-of-pocket drug costs for all seniors on Medicare at $2,000 per year, period. There is more to do, but these steps will put money back in the pockets of millions of families, easing fears and giving them just a little more breathing room.

While we keep working to make diabetes medications more affordable, my Administration is also focused on prevention, early interventions, improving treatments, and finding a cure. Today, one in three American adults has prediabetes, with a risk of developing Type 2 diabetes within 5 years. Diabetes has serious consequences. It is a leading cause of death in the United States, and once diagnosed, increases one's risk of heart attack, stroke, blindness, kidney failure, and loss of toes, feet, or legs. It is important to be aware of diabetes risk factors, many of which relate to nutrition and physical activity deficits. To learn more about risk factors and how to combat prediabetes, visit the Centers for Disease Control and Prevention National Diabetes Prevention Program: https://www.cdc.gov/diabetes/prevention/index.html.

Last year, we launched the Advanced Research Project Agency for Health (ARPA-H) to drive breakthroughs in preventing, detecting, and treating deadly diseases, including diabetes. Research advances have already helped develop several new diabetes drugs, including the first that can delay the onset of Type 1 diabetes, giving recently diagnosed people more time before starting insulin. This year, the Food and Drug Administration also approved the first cell therapy for adults with Type 1 diabetes who cannot safely manage their glucose levels with insulin as well as the first new oral medication for children with Type 2 diabetes in over two decades. We remain committed to robust research investment and to providing pathways to drive the development and delivery of additional, effective treatments and much-needed cures.

At the same time, we have expanded health coverage nationwide and lowered health care costs for millions of Americans, including the nearly 15 million Americans who buy their coverage under the Affordable Care Act and are saving $800 per year on their premiums. We are also cracking down on surprise medical bills and junk health insurance plans that look affordable but then stick consumers with big hidden costs. Last year, we held the first White House Conference on Hunger, Nutrition, and Health in over 50 years where we convened advocates, health care providers, food companies, and officials from every level of government. We have laid out a vision to prevent and reduce the pervasiveness of diet-related disease, like diabetes, across the United States by 2030, outlining a comprehensive strategy to end hunger and put healthy food on the table. Our plan incorporates steps to better prevent and manage diabetes, including by expanding access to nutrition counseling and working with the Congress to make the Medicare Diabetes Prevention Program permanent.

We want all 37 million Americans with diabetes to know that we have their backs and that the historic progress we have made to lower insulin prices is just the first step. This month, we celebrate the courage and resilience of this community; and we honor the medical professionals, loved ones, and advocates who do so much to help support it and keep driving us toward a cure.

NOW, THEREFORE, I, JOSEPH R. BIDEN JR., President of the United States of America, by virtue of the authority vested in me by the Constitution and the laws of the United States, do hereby proclaim the month of November 2023 as National Diabetes Month. I call upon all Americans, school systems, government agencies, nonprofit organizations, health care providers, research institutions, and other interested groups to join in activities that raise diabetes awareness and help prevent, treat, and manage this disease.

IN WITNESS WHEREOF, I have hereunto set my hand this thirty-first day of October, in the year of our Lord two thousand twenty-three, and of the Independence of the United States of America the two hundred and forty-eighth.

[FR Doc. 2023-24497

Filed 11-2-23; 8:45 am]

Billing code 3395-F4-P